DEPARTMENT OF COMMERCE

National Oceanic and Atmospheric Administration

RIN 0648-XE538

Mid-Atlantic Fishery Management Council (MAFMC); Public Meetings

AGENCY: National Marine Fisheries Service (NMFS), National Oceanic and Atmospheric Administration (NOAA), Commerce.

ACTION: Notice of public meetings.

SUMMARY: The Mid-Atlantic Fishery Management Council (Council) will hold public meetings of the Council and its Committees.

DATES: The meetings will be held Monday, April 11, 2016 through Thursday, April 14, 2016. For agenda details, see SUPPLEMENTARY INFORMATION.

ADDRESSES: The meeting will be held at: Montauk Yacht Club, 32 Star Island Road, Montauk, NY, telephone: (631) 668-3100.

Council address: Mid-Atlantic Fishery Management Council, 800 N. State St., Suite 201, Dover, DE 19901; telephone: (302) 674-2331.

FOR FURTHER INFORMATION CONTACT: Christopher M. Moore, Ph.D. Executive Director, Mid-Atlantic Fishery Management Council; telephone: (302) 526-5255. The Council's Web site, www.mafmc.org also has details on the meeting location, proposed agenda, webinar listen-in access, and briefing materials.

SUPPLEMENTARY INFORMATION: The following items are on the agenda, though agenda items may be addressed out of order (changes will be noted on the Council's Web site when possible).

Monday, April 11, 2016

Tilefish Committee

Review blueline tilefish alternatives, Advisory Panel recommendation and public comments, consider Scientific and Statistical Committee (SSC) Allowable Biological Catch (ABC) recommendations, and develop recommendations to the Council for final action on amendment.

Mackerel, Squid, Butterfish Committee and River Herring and Shad Committee

Review Industry-Funded Monitoring (IFM) mackerel coverage alternatives and Advisory Panel comments and make recommendations to the Council for preferred IFM alternatives for public hearings.

Mackerel, Squid, Butterfish Committee and River Herring and Shad Committee Joint With River Herring and Shad Advisory Panel

Review 2013 Stocks in the Fishery (River Herring and Shad) White Paper and develop recommendations to the Council regarding terms of reference for reconsideration of River Herring and Shad as stocks in the fishery.

Executive Committee

Review MAFMC and other Council ABC Control Rules and Risk Policies and discuss framework to modify existing MAFMC Risk Policy.

Tuesday, April 12, 2016

Ecosystems Approach to Fisheries Management (EAFM)

Review and discuss draft EAFM Guidance Document.

Unmanaged Forage Fish Amendment

Review the Fishery Management Action Team and Ecosystems and Ocean Planning Advisory Panel, Committee comments, and review and approve public hearing document.

European Union Pelagic Advisory Council and EAFM

Dr. Verena Ohms, Director Pelagic Advisory Council, will provide a presentation to the Council.

November 2016 Discard Methods Workshop

Michael Lanning, of the NMFS, will provide a presentation to the Council.

Wednesday, April 13, 2016

Golden Tilefish—2017 Specifications

Review SSC, Advisory Panel, Monitoring Committee, and staff recommendations for 2017 specifications.

Golden Tilefish Framework 2—Meeting 2

Review and adopt Framework.

Blueline Tilefish Amendment

Review Tilefish Committee recommendations and approve Blueline Tilefish Amendment.

Law Enforcement Report

Reports will be received from NOAA Office of Law Enforcement and the U.S. Coast Guard.

Scup Gear Restricted Areas Framework

Review alternatives and adopt Framework.

Omnibus Industry-Funded Monitoring Amendment

Review Committee recommendations and select preferred alternatives for public hearings.

Thursday, April 14, 2016

Spiny Dogfish Trip Limits

Review ASMFC Spiny Dogfish Trip Limit modification request and consider changes to the trip limit.

National Bycatch Reduction Strategy

A presentation will be given by a NMFS Representative.

Business Session

Organization Reports; Liaison Reports; Executive Director's Report; Science Report; and Committee Reports.

• Continuing and New Business

Although non-emergency issues not contained in this agenda may come before these groups for discussion, in accordance with the Magnuson-Stevens Fishery Conservation and Management Act (Magnuson-Stevens Act), those issues may not be the subject of formal action during these meetings. Actions will be restricted to those issues specifically identified in this notice and any issues arising after publication of this notice that require emergency action under Section 305(c) of the Magnuson-Stevens Act, provided the public has been notified of the Council's intent to take final action to address the emergency.

Special Accommodations

These meetings are physically accessible to people with disabilities. Requests for sign language interpretation or other auxiliary aid should be directed to M. Jan Saunders, (302) 526-5251, at least 5 days prior to the meeting date.

Dated: March 23, 2016.
Tracey L. Thompson,
Acting Deputy Director, Office of Sustainable Fisheries, National Marine Fisheries Service.

[FR Doc. 2016-06898 Filed 3-25-16; 8:45 am]

BILLING CODE 3510-22-P